SMALL BUSINESS ADMINISTRATION

Advisory Committee on Veterans Business Affairs: Federal Register Meeting Notice

AGENCY: U.S. Small Business Administration.

ACTION: Notice of open Federal Advisory Committee meeting.

SUMMARY: The full committee meeting will focus on business opportunities for veterans and service disabled veterans. Several topics include government procurement and business development. The meeting is open to the public.

DATES: Wednesday, March 11, 2015 from 9 a.m. to 4 p.m.

ADDRESSES: U.S. Small Business Administration, 409 3rd Street SW., Washington, DC 20416, Eisenhower Conference Room C, located on the Concourse Level Floor.

SUPPLEMENTARY INFORMATION: Pursuant to section 10(a)(2) of the Federal Advisory Committee Act (5 U.S.C., Appendix 2), SBA announces the meeting of the Advisory Committee on Veterans Business Affairs. The Advisory Committee on Veterans Business Affairs serves as an independent source of advice and policy recommendation to the Administrator of the U.S. Small Business Administration. Advance notice of attendance or desire to make a presentation to the Advisory Committee is requested. Comments for the Record should be emailed to point of contact listed below prior to the meeting for inclusion in the public record. Verbal presentations will be limited to five minutes in order to meet the agenda objectives. Requests for attendance/briefing must be emailed or sent via post by March 4, 2015 to: Ms. Barbara Carson, Acting Associate Administrator, Office of Veterans Business Development, U.S. Small Business Administration, 409 3rd Street SW., Washington, DC 20416; phone: (202) 205-6773; email: barbara.carson@sba.gov. Public comments, requests for additional information and/or special accommodations should be directed to same contact above. For more information, please visit our Web site at www.sba.gov/vets.

Dated: February 6, 2015.
Diana Doukas,
SBA Committee Management Officer.

[FR Doc. 2015-03520 Filed 2-26-15; 8:45 am]

BILLING CODE 8025-01-P